DEPARTMENT OF HEALTH AND HUMAN SERVICES

Administration for Children and Families

Proposed Information Collection Activity; Financing for Early Care and Education: Quality and Access for All-Case Studies (New Collection)

AGENCY: Office of Planning, Research, and Evaluation, Administration for Children and Families, U.S. Department of Health and Human Services.

ACTION: Request for public comments.

SUMMARY: The Administration for Children and Families (ACF) at the U.S. Department of Health and Human Services seeks approval to collect information to deepen our understanding of Head Start programs' funding approaches, as well as how the use of multiple funding sources within a single Head Start program may be associated with the delivery of Head Start's comprehensive services and early care and education (ECE) funding landscapes within states. Interviews will be conducted with Head Start staff, as well as state and local/regional staff knowledgeable about and/or directly responsible for ECE financial decision making and/or funding source administration. Existing documents from Head Start programs and ECE agencies will also be reviewed to further contextualize interview data.

DATES: Comments due December 9, 2024. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The proposed data collection builds upon prior survey work (Office of Management and Budget (OMB) #0970-0623) and seeks to better understand Head Start programs' use of multiple funding sources to support high-quality programming, as well as the state and local/regional policy contexts that influence their decision making. The data collection effort will consist of two studies: Study 1 will focus on coordination, or lack thereof, between the state level and the Head Start program level; Study 2 will focus on coordination, or lack thereof, between the local level (region/county, city/municipality) and the Head Start program level. To capture the diversity of state ECE funding landscapes, both studies will examine coordination within: (A) states that combine ECE funding sources at the state level and (B) states that do not combine ECE funding sources at the state level.

Studies 1 and 2 will both include semi-structured interviews with staff within Head Start programs and state government agencies, and Study 2 will also include interviews with staff within local/regional coordinating entities (LCEs). The interviews will probe on approaches to using multiple funding sources at state, local/regional, and Head Start program levels, including how Head Start programs use multiple funding sources to support high-quality programming, how Head Start program funding approaches are shaped by system-level approaches and structures, and the implications of using multiple funding sources for access, quality, and equity in ECE programming. Because of slight differences in the ECE funding landscape across states that do and do not combine funding at the state level, different interview protocols have been created within each study for state agency staff in states that do combine funding at the state level and staff in states that do not combine funding at the state level. Similarly, separate protocols were created for use in Head Start programs that do or do not use multiple funding sources. There is a single interview protocol for staff of LCEs with statutorily defined ECE financing authority.

Interviewers will also request and collect existing policy and/or budget-related documentation that may further contextualize respondent accounts and perspectives.

The resulting insights will inform ACF about the implementation of different funding models supporting Head Start programs, the facilitators that support and challenges that deter the use of multiple funding sources, and potential associations with program quality.

Respondents: Head Start program staff, State ECE staff, local/regional coordinating entity staff.

Annual Burden Estimates
Instrument | Number of respondents (total over request period) | Number of responses per respondent (total over request period) | Average burden per response (in hours) | Total burden (in hours) | Annual burden (in hours)
Final Recruitment Script—Head Start Staff | 86 | 1 | .5 | 43 | 21.5
Final Recruitment Script—Local/Regional Staff | 42 | 1 | .5 | 21 | 10.5
Final Recruitment Script—State ECE Agency Staff | 56 | 1 | .5 | 28 | 14
Study 1—Head Start Program Staff Interview Guide—programs that use multiple funding sources | 16 | 1 | 1.5 | 24 | 12
Study 1—Head Start Program Staff Interview Guide—programs that do not use multiple funding sources | 16 | 1 | 1.5 | 24 | 12
Study 1—State ECE Agency Staff Interview Guide—states that combine funding at the state level | 6 | 1 | 1.5 | 9 | 4.5
Study 1—State ECE Agency Staff Interview Guide—states that do not combine funding at the state level | 6 | 1 | 1.5 | 9 | 4.5
Study 2—Head Start Program Staff Interview Guide—programs that use multiple funding sources and are in states that have LCEs | 16 | 1 | 1.5 | 24 | 12
Study 2—Head Start Program Staff Interview Guide programs that do not use multiple funding sources and are in states that have LCEs | 16 | 1 | 1.5 | 24 | 12
Study 2—Local Coordinating Entity Staff Interview Guide for states with LCEs | 24 | 1 | 1.5 | 36 | 18
Study 2—State ECE Agency Staff Interview Guide—states that combine funding at the state level and have LCEs | 12 | 1 | 1.5 | 18 | 9
Study 2—State ECE Agency Staff Interview Guide—states that do not combine funds at the state level and have LCEs | 12 | 1 | 1.5 | 18 | 9

Estimated Total Annual Burden Hours: 139 hours.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9835; 42 U.S.C. 9844.

Mary C. Jones,
ACF/OPRE Certifying Officer.

[FR Doc. 2024-23479 Filed 10-9-24; 8:45 am]

BILLING CODE 4184-22-P